DEPARTMENT OF HEALTH AND HUMAN SERVICES

Health Resources and Services Administration

Discretionary Grant Program

AGENCY: Health Resources and Services Administration (HRSA), Health and Human Services (HHS).

ACTION: Notice of Single-Source Replacement Award to the Michigan Public Health Institute.

SUMMARY: HRSA will be transferring the Michigan Family-to-Family Health Information Center (F2F HIC) grant (H84MC09365) from the Family Center for Children and Youth with Special Health Care Needs (FCCYSHCN) in Detroit, Michigan, to the Michigan Public Health Institute (MPHI) in Okemos, Michigan, to ensure the continued provision of health resources, financing, related services, and parent-to-parent support for families with children and youth with special health care needs (CYSHCN) in the state of Michigan.

SUPPLEMENTARY INFORMATION: Former Grantee of Record: Family Center for Children and Youth with Special Health Care Needs.

Original Grant Period: June 1, 2008, to May 31, 2013.

Replacement Awardee: The Michigan Public Health Institute.

Amount of Replacement Award: Up to $95,700 for the remainder of the project period.

Period of Replacement Award: May 1, 2013, to May 31, 2013.

Authority: Section 501(c)(1)(A) of the Social Security Act, as amended.

CFDA Number: 93.504.

Justification: The former grantee, FCCYSHCN, has relinquished the F2F HIC grant due to internal oversight decisions. The former grantee has requested that HRSA transfer the F2F HIC funds to a Michigan-based family services agency in order to implement and carry out grant activities originally proposed under the FCCYSHCN grant application.

The MPHI was chosen as the best qualified grantee for this replacement award due to its capacity to provide an array of services to the target population and its record of compliance and sound fiscal management with other HHS grants. The MPHI has demonstrated its ability to successfully implement the goals and objectives of the F2F HIC project.

It is critical that the MPHI continue helping families of CYSHCN gain access to information they need to make informed health care decisions, be full partners in decision-making, and access needed resources/referrals and financing for those services in the state of Michigan. It is also imperative that the center continues to train and support health care providers and other professionals in public and private agencies who serve Michigan's CYSHCN, helping them better understand the needs of children, youth, and their families.

This replacement award will ensure that an F2F HIC will be accessible to families and professionals to continue providing essential information and referral and support services to families with CYSHCN throughout Michigan in a manner which avoids any disruption of services.

FOR FURTHER INFORMATION CONTACT: LaQuanta Smalley, Integrated Services Branch, Division of Services for Children with Special Health Needs, Maternal and Child Health Bureau, Health Resources and Services Administration, 5600 Fishers Lane, Room 13-61, Rockville, MD 20857; 301.443.2370; lsmalley@hrsa.gov.

Dated: July 2, 2013.
Mary K. Wakefield,
Administrator.

[FR Doc. 2013-16424 Filed 7-8-13; 8:45 am]

BILLING CODE 4165-15-P